FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
January 1, 2018 thru January 31, 2018
01/03/2018
20180436 | G | WestRock Company; Paul J. Magnell; WestRock Company.
20180446 | G | D.E. Shaw Oculus International Fund; EQT Corporation; D.E. Shaw Oculus International Fund.
20180447 | G | D.E. Shaw Composite Portfolios, L.L.C.; EQT Corporation; D.E. Shaw Composite Portfolios, L.L.C.
20180474 | G | Colgate-Palmolive Company; Prairie Capital V, L.P.; Colgate-Palmolive Company.
20180487 | G | Cortec Group Fund VI, L.P.; Harold V. Groome, III; Cortec Group Fund VI, L.P.
20180488 | G | Cortec Group Fund VI, L.P.; Christopher A. Groome; Cortec Group Fund VI, L.P.
20180490 | G | Novartis AG; Ultragenyx Pharmaceutical Inc.; Novartis AG.
20180493 | G | Stryker Corporation; Entellus Medical, Inc.; Stryker Corporation.
20180503 | G | Edward J. Foley, IV; Wayne Bromley and Jane Bromley; Edward J. Foley, IV.
20180508 | G | KKR Americas Fund XII, L.P.; Sandvik AB; KKR Americas Fund XII, L.P.
20180510 | G | American Securities Partners VII, L.P.; G. Stuart Yount; American Securities Partners VII, L.P.
20180512 | G | TCO Holdings Inc.; Windjammer Senior Equity Fund III, L.P.; TCO Holdings Inc.
01/04/2018
20180420 | G | Caesars Entertainment Corporation; Roderick J. Ratcliff; Caesars Entertainment Corporation.
20180429 | G | Roark Capital Partners II, L.P.; Buffalo Wild Wings, Inc.; Roark Capital Partners II, L.P.
20180457 | G | Piedmont Healthcare, Inc.; Columbus Regional Healthcare System, Inc.; Piedmont Healthcare, Inc.
20180497 | G | Kao Corporation; Luxury Brand Partners, LLC; Kao Corporation.
20180498 | G | GEODynamics B.V.; Oil States International, Inc.; GEODynamics B.V.
20180500 | G | Oil States International, Inc.; GEODynamics B.V.; Oil States International, Inc.
01/05/2018
20180476 | G | Sedgwick, Inc.; CL Acquisition Holdings Limited; Sedgwick, Inc.
20180499 | G | IIF US Holding LP; Southwest Generation Parentco, LLC; IIF US Holding LP.
20180517 | G | AEA Investors Fund VI AIV LP; KPEX Holdings, Inc.; AEA Investors Fund VI AIV LP.
01/08/2018
20180482 | G | Cineworld Group plc; Philip F. Anschutz; Cineworld Group plc.
20180496 | G | Becle, S.A.B de C.V.; Hood River Distillers, Inc.; Becle, S.A.B de C.V.
20180513 | G | Tencent Holdings Limited; Uber Technologies, Inc.; Tencent Holdings Limited.
20180518 | G | Marathon Petroleum Corporation; MPLX LP; Marathon Petroleum Corporation.
20180525 | G | SoftBank Vision Fund (AIV M1) L.P.; Urban Compass, Inc.; SoftBank Vision Fund (AIV M1) L.P.
20180543 | G | Taylor Parent, LLC; Lifetime Brands, Inc.; Taylor Parent, LLC.
20180544 | G | Lifetime Brands, Inc.; Taylor Parent, LLC; Lifetime Brands, Inc.
01/09/2018
20180469 | G | Total System Services, Inc.; Parthenon Investors IV, L.P.; Total System Services, Inc.
20180533 | G | Oak Hill Capital Partners IV (Onshore), L.P.; Sterling Capital Partners III, L.P.; Oak Hill Capital Partners IV (Onshore), L.P.
20180539 | G | Ares Corporate Opportunities Fund V, L.P.; Convergint Technologies Holdings, LLC; Ares Corporate Opportunities Fund V, L.P.
01/10/2018
20180449 | G | Royal Dutch Shell plc; SBM Offshore B.V.; Royal Dutch Shell plc.
20180504 | G | Total S.A.; A.P. Moller Holding A/S; Total S.A.
20180516 | G | Vinci S.A.; FR XII Charlie AIV, L.P.; Vinci S.A.
20180522 | G | Andeavor; EnCap Flatrock Midstream Fund II, L.P.; Andeavor.
20180528 | G | TEGNA Inc.; Elisabeth M. Kimmel; TEGNA Inc.
20180529 | G | SK Invictus Holdings, L.P.; Israel Chemicals Ltd.; SK Invictus Holdings, L.P.
20180537 | G | One Rock Capital Partners II, LP; Sun Capital Partners VI, LP.; One Rock Capital Partners II, LP.
20180542 | G | Romulus Parent LLC; 1925637 Ontario Limited; Romulus Parent LLC.
01/11/2018
20180452 | G | Kainos Capital Partners II LP; CulinArte' Marketing Group, LLC; Kainos Capital Partners II LP.
20180494 | G | Firmenich International SA; Natural Flavors, Inc.; Firmenich International SA.
01/12/2018
20180435 | G | Meredith Corporation; Time Inc.; Meredith Corporation.
20180479 | G | Elliott International Limited; Akamai Technologies, Inc.; Elliott International Limited.
20180549 | G | The Hershey Trust Company, as Trustee for Milton Hershey Sch; Amplify Snack Brands, Inc.; The Hershey Trust Company, as Trustee for Milton Hershey Sch.
01/16/2018
20180248 | G | Cisco Systems, Inc.; Broadsoft, Inc.; Cisco Systems, Inc.
20180454 | G | New Residential Investment Corp.; Shellpoint Partners, LLC; New Residential Investment Corp.
20180486 | G | Ningbo Joyson Electronic Corporation; Takata Sogyo; Ningbo Joyson Electronic Corporation.
20180548 | G | NQP SPV I, LP; Viamet Pharmaceuticals Holdings, LLC; NQP SPV I, LP.
20180551 | G | Hakuhodo Dy Holdings, Inc.; IDEO Partners, LP; Hakuhodo Dy Holdings, Inc.
20180554 | G | Platinum Equity Capital Partners International IV (Cayman); Husky IMS International Ltd.; Platinum Equity Capital Partners International IV (Cayman).
20180556 | G | Hubbell Incorporated; Sun Capital Partners VI, L.P.; Hubbell Incorporated.
20180559 | G | B.S.A. S.A.; The Icelandic Milk & Skyr Corporation; B.S.A. S.A.
20180560 | G | Crown Holdings, Inc.; Carlyle Partners VI Cayman, L.P.; Crown Holdings, Inc.
20180564 | G | Summit Park II, L.P.; The Pamela Zboch Irrevocable Trust; Summit Park II, L.P.
01/18/2018
20180561 | G | PE Vertiv Holdings, LLC; PCE, Inc.; PE Vertiv Holdings, LLC.
20180570 | G | WME Entertainment Parent, LLC; Searchlight Capital II PV, L.P.; WME Entertainment Parent, LLC.
01/19/2018
20180491 | G | Linamar Corporation; Moray Marketing Ltd.; Linamar Corporation.
20180547 | G | Silver Lake Partners V DE (AIV), L.P.; KKR 2006 Fund L.P.; Silver Lake Partners V DE (AIV), L.P.
20180572 | G | Masco Corporation; The Harold S. Minoff Trust; Masco Corporation.
20180583 | G | Masco Corporation; The Clare Minoff Trust; Masco Corporation.
01/23/2018
20180562 | G | Dustin Moskovitz; Asana, Inc.; Dustin Moskovitz.
01/24/2018
20180584 | G | PAI Europe VI-I FPCI; Sun Capital Partners V, L.P.; PAI Europe VI-I FPCI.
20180589 | G | Applied Industrial Technologies, Inc.; Harvest Partners VI, L.P.; Applied Industrial Technologies, Inc.
20180591 | G | LB Spectrum Holdings, LLC; AT&T Inc.; LB Spectrum Holdings, LLC.
20180592 | G | McDermott International, Inc.; Chicago Bridge & Iron Company N.V.; McDermott International, Inc.
20180593 | G | Rockland Power Partners III, LP; The AES Corporation; Rockland Power Partners III, LP.
20180595 | G | PAI Europe VI-1 FPCI; Refresco Group N.V.; PAI Europe VI-1 FPCI.
20180598 | G | Corning Incorporated; 3M Company; Corning Incorporated.
20180599 | G | Crestview Partners III, L.P.; Marlin Equity III, L.P.; Crestview Partners III, L.P.
20180601 | G | Blue Water Aggregates Fund LP; Thomas S. Hoover, Sr.; Blue Water Aggregates Fund LP.
20180603 | G | Softbank Group Corp.; Lemonade, Inc.; Softbank Group Corp.
20180607 | G | Manulife Financial Corporation; Sodim SGPS, S.A.; Manulife Financial Corporation.
20180609 | G | SCANA Corporation; LS Power Equity Partners III, L.P.; SCANA Corporation.
20180612 | G | Diligere Holdings, L.P.; Diamond Parent Holdings, Corp.; Diligere Holdings, L.P.
20180622 | G | M III Acquisition Corp.; Oaktree Power Opportunities Fund III, L.P.; M III Acquisition Corp.
20180625 | G | Fluidra, S.A.; Piscine Luxembourg Holdings 1 S.a.r.l.; Fluidra, S.A.
20180626 | G | Clearlake Capital Partners V, L.P.; Saw Mill Capital Partners, LP; Clearlake Capital Partners V, L.P.
20180634 | G | Blue Water Aggregates Fund LP; Ephriam H. Hoover, III; Blue Water Aggregates Fund LP.
01/25/2018
20180558 | G | Starboard Value and Opportunity Fund Ltd.; Cars.com Inc.; Starboard Value and Opportunity Fund Ltd.
01/29/2018
20180471 | G | TPG VI Wolverine Co-Invest, LP; Assurant, Inc.; TPG VI Wolverine Co-Invest, LP.
20180473 | G | TPG Partners VI-AIV, L.P.; Assurant, Inc.; TPG Partners VI-AIV, L.P.
20180555 | G | Campbell Soup Company; Snyder's-Lance, Inc.; Campbell Soup Company.
20180588 | G | Celgene Corporation; Impact Biomedicines, Inc.; Celgene Corporation.
20180597 | G | Discovery Global Opportunity Fund, Ltd.; Urban Compass, Inc.; Discovery Global Opportunity Fund, Ltd.
20180606 | G | Hopmeadow Cayman GP LLC; The Hartford Financial Services Group, Inc.; Hopmeadow Cayman GP LLC.
20180629 | G | Pamlico Capital Management LP; Mr. Thomas E. McInerney and Ms. Paula McInerney; Pamlico Capital Management LP.
20180632 | G | Indigo Natural Resources LLC; Indigo Haynesville LLC; Indigo Natural Resources LLC.
20180633 | G | Indigo Natural Resources LLC; M5 Midstream LLC; Indigo Natural Resources LLC.
20180635 | G | Starr International Company, Inc.; New Mountain Partners IV (AIV-B), L.P.; Starr International Company, Inc.
20180636 | G | Sompo Holdings, Inc.; Lexon Surety Group, LLC; Sompo Holdings, Inc.
20180637 | G | Accel-KKR Capital Partners V, LP; Pylon Capital LLC; Accel-KKR Capital Partners V, LP.
20180638 | G | LifeBridge Health, Inc.; Affinity Health Alliance, Inc.; LifeBridge Health, Inc.
20180640 | G | Platinum Equity Capital Partners IV, L.P.; Winter Street Opportunities Fund, L.P.; Platinum Equity Capital Partners IV, L.P.
20180642 | G | Apollo VIII Uniform Investor, L.P.; FCFI Acquisition LLC; Apollo VIII Uniform Investor, L.P.
20180644 | G | KKR North America XI (Indigo) Blocker Parent L.P.; Avvo, Inc.; KKR North America XI (Indigo) Blocker Parent L.P.
20180653 | G | Kinder Morgan, Inc.; The Southern Company; Kinder Morgan, Inc.
01/30/2018
20180563 | G | Conagra Brands, Inc.; Kangaroo Brands, Inc.; Conagra Brands, Inc.
20180613 | G | Omnicom Group Inc.; Brenda Snow; Omnicom Group Inc.
20180614 | G | Omnicom Group Inc.; Corbin Wood; Omnicom Group Inc.
20180643 | G | Mercury Fortuna Buyer, LLC; Shahriar “James” Ekbatani; Mercury Fortuna Buyer, LLC.
01//31/2018
20180660 | G | Compass Diversified Holdings; Warren F. Florkiewicz; Compass Diversified Holdings.
20180664 | G | Energy Capital Partners IV-A, LP; KS Family Holdings Corporation; Energy Capital Partners IV-A, LP.
20180667 | G | Frederic Sanchez; Novafives SAS; Frederic Sanchez.
20180675 | G | Allscripts Healthcare Solutions, Inc.; Practice Fusion, Inc.; Allscripts Healthcare Solutions, Inc.

FOR FURTHER INFORMATION CONTACT: Theresa Kingsberry, Program Support Specialist, Federal Trade Commission Premerger Notification Office, Bureau of Competition, Room CC-5301, Washington, DC 20024, (202) 326-3100.

By direction of the Commission.
Donald S. Clark,
Secretary.

[FR Doc. 2018-05248 Filed 3-14-18; 8:45 am]

BILLING CODE 6750-01-P